DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: SAMHSA Exhibit Program Request Form—New—The Substance Abuse and Mental Health Services Administration (SAMHSA) has developed a new SAMHSA Exhibit Program for conferences and events. The new exhibit booth supports SAMHSA's vision of “A Life in the Community for Everyone” and its mission of “Building Resilience and Facilitating Recovery.”

The Exhibit Program was developed to raise visibility for program priorities in targeted forums, share information with the public on agency services, and to ensure consistent and coordinated messages about SAMHSA's vision and mission. This brief form requests information needed by SAMHSA to respond to requests from outside organizations that would like SAMHSA's participation in their conference.

Number of respondents | Responses per respondent | Burden per response (hrs.) | Total annual burden (hrs.)
20 | 1 | .083 | 2

Send comments to Nancy Pearce, SAMHSA Reports Clearance Officer, Room 16-105, Parklawn Building, 5600 Fishers Lane, Rockville, MD 20857. Written comments should be received within 60 days of this notice.

Dated: March 2, 2004.
Anna Marsh,
Executive Officer, SAMHSA.

[FR Doc. 04-5231 Filed 3-8-04; 8:45 am]

BILLING CODE 4162-20-P